DEPARTMENT OF THE INTERIOR

Bureau of Land Management

[OR-4310-33]

Steens Mountain Advisory Council—Notice of Renewal

AGENCY: Bureau of Land Management, Interior.

ACTION: Notice of renewal of the Steens Mountain Advisory Council.

SUMMARY: This notice is published in accordance with Section 9(a)(2) of the Federal Advisory Committee Act of 1972, Public Law 92-463. Notice is hereby given that the Secretary of the Interior (Secretary) has renewed the Bureau of Land Management's Steens Mountain Advisory Council.

The purpose of the Council will be to advise the Secretary with respect to the preparation and implementation of the Steens Mountain Cooperative Management and Protection Area Management Plan.

FOR FURTHER INFORMATION CONTACT: Maggie Langlas, National Landscape Conservation System (171), Bureau of Land Management, 1620 L Street, NW., Room 301 LS, Washington DC 20236, telephone (202) 452-7787.

Certification Statement

I hereby certify that the renewal of the Steens Mountain Advisory Council is necessary and in the public interest in connection with the Secretary's responsibilities to manage the lands, resources, and facilities administered by the Bureau of Land Management.

Dated: August 4, 2006.
Dirk Kempthorne,
Secretary of the Interior.

[FR Doc. 06-6866 Filed 8-10-06; 8:45 am]

BILLING CODE 4310-DQ-M